DEPARTMENT OF THE INTERIOR

Fish and Wildlife Service

[FWS-HQ-IA-2015-N082; FXIA16710900000-156-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before June 1, 2015. We must receive requests for marine mammal permit public hearings, in writing, at the address shown in the ADDRESSES section by June 1, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Tulsa Zoo Management, Inc., Tulsa, OK; PRT-54405B

The applicant requests a permit to export one captive-bred Diana monkey (Cercopithecus diana) for the purpose of enhancement of the survival of the species. This notification covers activities to be conducted by the applicant over a 1-year period.

Applicant: Florida International University, North Miami, FL; PRT-64111B

The applicant requests a permit to import up to 150 skin, shell, or blood tissue samples from up to 50 green sea turtles (Chelonia mydas) and up to 150 skin, shell, or blood tissue samples from up to 50 green Loggerhead sea turtles (Caretta caretta) for the purpose scientific research. This notification covers activities to be conducted by the applicant over a 5-year period.

Applicant: Miami-Dade Zoological Park and Gardens, Miami, FL; PRT-59493B

The applicant requests a permit to export two female pink pigeons (Nesoenas mayeri) for the purpose of enhancement of the survival of the species. This notification covers activities to be conducted by the applicant over a 5-year period.

Applicant: Adrian Cieslak, Wallace, SC; PRT-19311B

The applicant requests a captive-bred wildlife registration under 50 CFR 17.21(g) for Cuban Crocodile (Crocodilus rhombifer), Saltwater crocodile (Crocodilus porosus), broad-snouted caiman (Caiman latirostris), Chinese alligator (Alligator sinensis), and common caiman (Caiman crocodilus) to enhance the species' propagation or survival. This notification covers activities to be conducted by the applicant over a 5-year period.

Applicant: Project Survival, Dunlap, CA; PRT-46280B

The applicant requests a permit to import one wild female jaguar (Panthera onca) for the purpose of enhancement of the survival of the species from Sorocaba Zoo, Sorocaba, Brazil.

Applicant: Project Survival, Dunlap, CA; PRT-63546B

The applicant requests a permit to import one wild margay (Leopardus wiedii) and one captive born and six wild ocelots (Leopardus pardalis) for the purpose of enhancement of the survival of the species from Chiriqui Feline Center, Buqaba District, Chiriq Province, Panama.

Multiple Applicants

The following applicants each request a permit to import the sport-hunted trophy of one male bontebok (Damaliscus pygargus pygargus) culled from a captive herd maintained under the management program of the Republic of South Africa, for the purpose of enhancement of the survival of the species.

Applicant: Jason Hagan, Hallettsville, TX; PRT-58572B

Applicant: Jeffrey Hayer, Greenfield, MA; PRT-63304B

Applicant: Terrance Lucht, Houston, TX; PRT-62687B

Applicant: Jeffery Dobbins, Mountain View, AR; PRT-63973B

B. Endangered Marine Mammals and Marine Mammals

Applicant: Robert Rockwell, American Museum of Natural History, New York, NY; PRT-03086A

The applicant requests renewal of their permit to import up to 1,000 biological samples annually from polar bears (Ursus maritimus) from Canada for the purpose of scientific research. This notification covers activities to be conducted by the applicant over a 5-year period.

Concurrent with publishing this notice in the Federal Register, we are forwarding copies of the above application to the Marine Mammal Commission and the Committee of Scientific Advisors for their review.

Brenda Tapia,
Program Analyst/Data Administrator,Branch of Permits, Division of Management Authority.

[FR Doc. 2015-10135 Filed 4-30-15; 8:45 am]

BILLING CODE 4310-55-P